ARCHITECTURAL AND TRANSPORTATION BARRIERS COMPLIANCE BOARD

36 CFR Part 1190

[Docket No. ATBCB 2011-04]

RIN 3014-AA26

Accessibility Guidelines for Pedestrian Facilities in the Public Right-of-Way; Reopening of Comment Period

AGENCY: Architectural and Transportation Barriers Compliance Board.

ACTION: Notice of proposed rulemaking; reopening of comment period.

SUMMARY: The Architectural and Transportation Barriers Compliance Board (Access Board) is reopening until February 2, 2012, the comment period for the notice entitled “Accessibility Guidelines for Pedestrian Facilities in the Public Right-of-Way,” that appeared in the Federal Register on July 26, 2011. In that notice, the Access Board proposed guidelines for accessible public rights-of-way and requested comments by November 23, 2011. The Access Board is taking this action to allow interested persons additional time to submit comments.

DATES: Submit comments by February 2, 2012.

ADDRESSES: Submit comments by any of the following methods:

• Federal eRulemaking Portal: http://www.regulations.gov. Follow the instructions for submitting comments. Regulations.gov ID for this docket is ATBCB-2011-0004.

• Email: row@access-board.gov. Include docket number ATBCB 2011-04 or RIN number 3014-AA26 in the subject line of the message.

• Fax: (202) 272-0081.

• Mail or Hand Delivery/Courier: Office of Technical and Informational Services, Access Board, 1331 F Street NW., Suite 1000, Washington, DC 20004-1111.

All comments will be posted without change to http://www.regulations.gov, including any personal information provided.

FOR FURTHER INFORMATION CONTACT: Scott Windley, Office of Technical and Information Services, Architectural and Transportation Barriers Compliance Board, 1331 F Street NW., Suite 1000, Washington, DC 20004-1111. Telephone (202) 272-0025 (voice) or (202) 272-0028 (TTY). Email address row@access-board.gov.

SUPPLEMENTARY INFORMATION:

Introduction

The Architectural and Transportation Barriers Compliance Board (Access Board) is reopening until February 2, 2012, the comment period for the notice entitled “Accessibility Guidelines for Pedestrian Facilities in the Public Right-of-Way,” that appeared in the Federal Register on July 26, 2011 (76 FR 44664). In that notice, the Access Board proposed guidelines for accessible public rights-of-way and requested comments by November 23, 2011.

On the day the comment period ended, the Access Board received a request from the National Association of Counties, the National League of Cities and the U.S. Conference of Mayors to extend the comment period for at least 90 days to provide local governments with additional time to review and more fully assess the proposed rule. In addition, just prior to the closing of the comment period, the American Council of Engineering Companies requested an unspecified extension of the comment period. Although the Access Board has already provided a 120-day comment period and has held two public hearings on the proposed rule, the Board will provide additional time for the public to submit comments on this proposed rule. The new comment period ends on February 2, 2012.

David M. Capozzi,
Executive Director.

[FR Doc. 2011-31089 Filed 12-2-11; 8:45 am]

BILLING CODE 8150-01-P